DEPARTMENT OF HEALTH AND HUMAN SERVICES

Centers for Disease Control and Prevention

[30-Day-14-0255]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 359-5806. Written comments should be received within 30 days of this notice.

Proposed Project

Resources and Services for the CDC National Prevention Information Network—Revision—National Center for HIV/AIDS, Viral Hepatitis, STD, & TB Prevention (NCHHSTP), Centers for Disease Control and Prevention (CDC).

Background and Brief Description

The National Center for HIV/AIDS, Viral Hepatitis, STD, and TB Prevention (NCHHSTP) proposes to continue data collection for the Resources and Services Database of the CDC National Prevention Information Network and is requesting a 3-year approval of this revised information collection request (ICR).

The CDC, NCHHSTP program has the primary responsibility within the CDC and the U.S. Public Health Service for the prevention and control of HIV infection, viral hepatitis, sexually transmitted diseases (STDs), and tuberculosis (TB), as well as for community-based HIV prevention activities, syphilis and TB elimination programs. To support NCHHSTP's mission and to link Americans to prevention, education, and care services, the CDC National Prevention Information Network (NPIN) serves as the U.S. reference, referral, and distribution service for information on HIV/AIDS, viral hepatitis, STDs, and TB. NPIN is a critical member of the network of government agencies, community organizations, businesses, health professionals, educators, and human services providers that educate the American public about the grave threat to public health posed by HIV/AIDS, viral hepatitis, STDs, and TB, and provides services for persons infected with human immunodeficiency virus (HIV).

Established in 1988, the NPIN Resources and Services Database contains entries on approximately 9,000 organizations and is the most comprehensive listing of HIV/AIDS, STD and TB resources and services available throughout the country. This database describes national, state and local organizations that provide services related to HIV/AIDS, viral hepatitis, STDs, and TB, services such as counseling and testing, prevention, education and support. The NPIN reference staff relies on the Resources and Services Database to respond to thousands of requests each year for information or referral from community based organizations, state and local health departments, and health professionals working in HIV/AIDS, STD and TB prevention. The CDC-INFO (formerly the CDC National AIDS Hotline) staff also uses the NPIN Resources and Services Database to refer up to 110,000 callers each year to local programs for information, services, and treatment. The American public can also access the NPIN Resources and Services database through the NPIN Web site. More than 56 million hits by the public to the Web site are recorded annually.

A representative from each new organization identified will be administered the resource organization questionnaire via the telephone. Representatives may include registered nurses, social and community service managers, health educators, or social and human service assistants. As part of the verification process for organizations currently included in the Resources and Services Database, about 33 percent of the organization's representatives will receive a copy of their current database entry by electronic mail, including an introductory message and a list of instructions. The remaining 70 percent will receive a telephone call to review their database record. There are no costs to respondents other than their time. The total estimated annual burden hours are 1,882.

Estimated Annualized Burden Hours
Form | Respondents | Number of respondents | Number of responses per respondent | Average burden per response
Initial Questionnaire Telephone Script | Registered Nurses | 100 | 1 | 20/60
| Social and Community Service Managers | 50 | 1 | 10/60
| Health Educators | 50 | 1 | 13/60
| Social and Human Service Assistants | 400 | 1 | 15/60
Telephone Verification | Registered Nurses, Social and Community Service Managers, and Health Educators | 2,400 | 1 | 10/60
| Social and Human Service Assistants | 4,800 | 1 | 9/60
Email Verification (3,000 organizations) | Registered Nurses, Health Educators, and Social and Human Service Assistants | 3,300 | 1 | 10/60
| Social and Community Service Managers | 300 | 1 | 12/60

LeRoy Richardson,
Chief, Information Collection Review Office, Office of Scientific Integrity, Office of the Associate Director for Science, Office of the Director, Centers for Disease Control and Prevention.

[FR Doc. 2013-27402 Filed 11-14-13; 8:45 am]

BILLING CODE 4163-18-P